DEPARTMENT OF DEFENSE

Department of the Navy

Meeting of the Chief of Naval Operations (CNO) Executive Panel; Correction

AGENCY: Department of the Navy, DOD.

ACTION: Notice of closed meeting; correction.

SUMMARY: The Department of the Navy published a document in the Federal Register of January 30, 2004, announcing a closed meeting of the CNO Executive Panel. The document contained an incorrect date and time.

FOR FURTHER INFORMATION CONTACT: Lieutenant Commander Christopher Corgnati, CNO Executive Panel, 4825 Mark Center Drive, Alexandria, VA 22311, (703) 681-4909.

Correction

In the Federal Register of January 30, 2004, in FR Doc. 04-2048, on page 4498, in the third column, correct the DATES caption to read:

DATES: The meeting will be held on Tuesday, February 10, 2004, from 4 p.m. to 4:30 p.m.

Dated: February 4, 2004.
J.T. Baltimore,
Lieutenant Commander, Judge Advocate General's Corps, U.S. Navy, Alternate Federal Register Liaison Officer.

[FR Doc. 04-2777 Filed 2-6-04; 8:45 am]

BILLING CODE 3810-FF-U